SMALL BUSINESS ADMINISTRATION

[Declaration of Disaster #3475]

Territory of Guam

As a result of the President's major disaster declaration for Public Assistance on December 8, 2002, and Amendment 1 adding Individual Assistance on December 19, 2002, I find that the Territory Of Guam constitutes a disaster area due to damages caused by Super Typhoon Pongsona occurring on December 8, 2002 and continuing. Applications for loans for physical damage as a result of this disaster may be filed until the close of business on February 18, 2003 and for economic injury until the close of business on September 19, 2003 at the address listed below or other locally announced locations: U.S. Small Business Administration, Disaster Area 4 Office, PO Box 13795, Sacramento, CA 95853-4795.

The interest rates are:

| Percent
For Physical Damage:
Homeowners with credit available elsewhere | 5.875
Homeowners without credit available elsewhere | 2.937
Businesses with credit available elsewhere | 6.648
Businesses and Non-profit Organizations without credit available elsewhere | 3.324
Others (Including Non-Profit Organizations) with credit available elsewhere | 5.500
For Economic Injury:
Businesses and Small Agricultural Cooperatives without credit available elsewhere | 3.324

The number assigned to this disaster for physical damage is 347508 and for economic injury the number is 9T6900.

(Catalog of Federal Domestic Assistance Program Nos. 59002 and 59008).
Dated: December 20, 2002.
Herbert L. Mitchell,
Associate Administrator, for Disaster Assistance.

[FR Doc. 02-32802 Filed 12-26-02; 8:45 am]

BILLING CODE 8025-01-P